DEPARTMENT OF ENERGY

Federal Energy Regulatory Commission

Combined Notice of Filings #1

Take notice that the Commission received the following exempt wholesale generator filings:

Docket Numbers: EG19-113-000.

Applicants: Sage Draw Wind, LLC.

Description: Notice of Self-Certification of EWG Status Sage Draw Wind, LLC.

Filed Date: 5/16/19.

Accession Number: 20190516-5009.

Comments Due: 5 p.m. ET 6/6/19.

Docket Numbers: EG19-114-000.

Applicants: 231RC 8me LLC.

Description: Self-Certification of EWG Status of 231RC 8me LLC.

Filed Date: 5/16/19.

Accession Number: 20190516-5048.

Comments Due: 5 p.m. ET 6/6/19.

Take notice that the Commission received the following electric rate filings:

Docket Numbers: ER11-2774-003.

Applicants: Virginia Electric and Power Company, Dominion Energy Generation Marketing, Inc., Dominion Energy Nuclear Connecticut, Inc., NedPower Mount Storm, LLC, Fowler Ridge Wind Farm LLC, Dominion Bridgeport Fuel Cell, LLC, South Carolina Electric & Gas Company.

Description: Supplement to February 8, 2019 Notice of Non-Material Change in Status of Dominion Resources Services, Inc., on behalf of Virginia Electric and Power Company, et al.

Filed Date: 5/15/19.

Accession Number: 20190515-5257.

Comments Due: 5 p.m. ET 6/5/19.

Docket Numbers: ER12-303-003.

Applicants: Virginia Electric and Power Company, NedPower Mount Storm, LLC, Fowler Ridge Wind Farm LLC, Dominion Energy Nuclear Connecticut, Inc., Dominion Energy Generation Marketing, Inc., Dominion Bridgeport Fuel Cell, LLC, South Carolina Electric & Gas Company.

Description: Supplement to February 8, 2019 Notice of Non-Material Change in Status of Dominion Resources Services, Inc., on behalf of Virginia Electric and Power Company, et al.

Filed Date: 5/15/19.

Accession Number: 20190515-5254.

Comments Due: 5 p.m. ET 6/5/19.

Docket Numbers: ER15-1429-011.

Applicants: Emera Maine.

Description: Compliance Filing revising 2018-2019 Formula Rate Charges of Emera Maine.

Filed Date: 5/16/19.

Accession Number: 20190516-5031.

Comments Due: 5 p.m. ET 6/6/19.

Docket Numbers: ER19-601-003.

Applicants: AEP Texas Inc., Appalachian Power Company, Indiana Michigan Power Company, Kentucky Power Company, Kingsport Power Company, Wheeling Power Company, Public Service Company of Oklahoma, Southwestern Electric Power Company, AEP Energy Partners, Inc.

Description: Compliance filing: MBR Tariff, FERC Electric Tariff for Market Based Sales to be effective 3/1/2019.

Filed Date: 5/15/19.

Accession Number: 20190515-5182.

Comments Due: 5 p.m. ET 6/5/19.

Docket Numbers: ER19-606-003.

Applicants: AEP Generation Resources Inc., Southwestern Electric Power Company, Public Service Company of Oklahoma, Wheeling Power Company, Kingsport Power Company, Kentucky Power Company, Indiana Michigan Power Company, Appalachian Power Company, AEP Texas Inc.

Description: Compliance filing: MBR Tariff, FERC Electric Tariff For Market-Based Sales to be effective 3/1/2019.

Filed Date: 5/15/19.

Accession Number: 20190515-5190.

Comments Due: 5 p.m. ET 6/5/19.

Docket Numbers: ER19-1874-000.

Applicants: PJM Interconnection, L.L.C.

Description: § 205(d) Rate Filing: Original SA No. 5371; Queue No. NQ147-1 to be effective 4/22/2019.

Filed Date: 5/15/19.

Accession Number: 20190515-5164.

Comments Due: 5 p.m. ET 6/5/19.

Docket Numbers: ER19-1875-000.

Applicants: PJM Interconnection, L.L.C.

Description: § 205(d) Rate Filing: Original Service Agreement No. 5372; Queue No. AD2-097 to be effective 4/16/2019.

Filed Date: 5/15/19.

Accession Number: 20190515-5174.

Comments Due: 5 p.m. ET 6/5/19.

Docket Numbers: ER19-1876-000.

Applicants: Duke Energy Carolinas, LLC, Duke Energy Progress, LLC, Duke Energy Florida, LLC.

Description: Petition for Waiver of Tariff Provisions of the Duke Southeast Companies.

Filed Date: 5/15/19.

Accession Number: 20190515-5188.

Comments Due: 5 p.m. ET 6/5/19.

Docket Numbers: ER19-1877-000.

Applicants: Southern California Edison Company.

Description: § 205(d) Rate Filing: Letter Agreement Acorn I Energy Storage, LLC to be effective 4/23/2019.

Filed Date: 5/15/19.

Accession Number: 20190515-5201.

Comments Due: 5 p.m. ET 6/5/19.

Docket Numbers: ER19-1878-000.

Applicants: Midcontinent Independent System Operator, Inc., Ameren Illinois Company.

Description: § 205(d) Rate Filing: 2019-05-15_SA 3301 Ameren-KCPL Interchange Agreement to be effective 5/16/2019.

Filed Date: 5/15/19.

Accession Number: 20190515-5202.

Comments Due: 5 p.m. ET 6/5/19.

Docket Numbers: ER19-1879-000.

Applicants: Telysium Energy Marketing, LLC.

Description: Tariff Cancellation: Cancellation of MBR to be effective 5/15/2019.

Filed Date: 5/15/19.

Accession Number: 20190515-5216.

Comments Due: 5 p.m. ET 6/5/19.

Docket Numbers: ER19-1880-000.

Applicants: PJM Interconnection, L.L.C.

Description: § 205(d) Rate Filing: Original ISA, SA No. 5364; Queue No. AB2-160 to be effective 5/16/2019.

Filed Date: 5/16/19.

Accession Number: 20190516-5055.

Comments Due: 5 p.m. ET 6/6/19.

Docket Numbers: ER19-1881-000.

Applicants: PJM Interconnection, L.L.C.

Description: § 205(d) Rate Filing: Original ISA, SA No. 5366; Queue No. AB2-161 to be effective 4/16/2019.

Filed Date: 5/16/19.

Accession Number: 20190516-5077.

Comments Due: 5 p.m. ET 6/6/19.

Docket Numbers: ER19-1882-000.

Applicants: PJM Interconnection, L.L.C.

Description: § 205(d) Rate Filing: Original Interim ISA SA No. 5373; Queue No. AC1-204 to be effective 4/19/2019.

Filed Date: 5/16/19.

Accession Number: 20190516-5078.

Comments Due: 5 p.m. ET 6/6/19.

Docket Numbers: ER19-1883-000.

Applicants: NorthWestern Corporation.

Description: Tariff Cancellation: Notice of Cancellation of South Dakota OATT (Tariff ID 39) to be effective 7/16/2019.

Filed Date: 5/16/19.

Accession Number: 20190516-5079.

Comments Due: 5 p.m. ET 6/6/19.

Docket Numbers: ER19-1884-000.

Applicants: NorthWestern Corporation.

Description: Tariff Cancellation: Notice of Cancellation: SA 663, 664 & 665, Service Agreements with PPL to be effective 5/17/2019.

Filed Date: 5/16/19.

Accession Number: 20190516-5089.

Comments Due: 5 p.m. ET 6/6/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 16, 2019.
Nathaniel J. Davis, Sr.,
Deputy Secretary.

[FR Doc. 2019-10684 Filed 5-21-19; 8:45 am]

BILLING CODE 6717-01-P